DEPARTMENT OF COMMERCE

National Oceanic and Atmospheric Administration

[I.D. 070604A]

Endangered Species; File No. 1489

AGENCY: National Marine Fisheries Service (NMFS), National Oceanic and Atmospheric Administration (NOAA), Commerce.

ACTION: Receipt of application.

SUMMARY: Notice is hereby given that Dr. James P. Kirk, U.S. Army, Engineer Research and Development Center, 3903 Halls Ferry Road, Vicksburg, MS 39180, has applied in due form for a permit to take shortnose sturgeon (Acipenser brevirostrum) for purposes of scientific research.

DATES: Written, telefaxed, or e-mail comments must be received on or before August 11, 2004.

ADDRESSES: The application and related documents are available for review upon written request or by appointment in the following office(s):

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period.

Comments may also be submitted by e-mail. The mailbox address for providing email comments is NMFS.Pr1Comments@noaa.gov. Include in the subject line of the e-mail comment the following document identifier: File No. 1489.

FOR FURTHER INFORMATION CONTACT: Jennifer Jefferies or Carrie Hubard, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

Most populations of shortnose sturgeon in southern rivers are believed to be depressed. The Army's Fort Stewart has been supporting shortnose sturgeon monitoring studies in the Ogeechee River, Georgia, for almost a decade and have requested to continue that work for the next five years. The purpose of the proposed study is to continue to meet the objectives created for Fort Stewart in the Endangered Species Management. To address these objectives, the researchers are requesting authorization to capture 300 adult shortnose sturgeon via gillnets, trammel nets, trawls and trot lines. Adult sturgeon would be measured, weighed, handled, Floy or PIT tagged, tissue sampled and released. In addition, they are requesting to externally radio tag and track a subset of 20 fish and externally or internally sonic/radio tag and track a subset of 40 fish over the life of the permit. Researchers also request authorization to collect 40 eggs via buffer pads, annually. An annual accidental mortality of 2 fish annually is also requested.

Dated: July 6, 2004.
Tammy C. Adams,
Acting Chief, Permits, Conservation and Education Division, Office of Protected Resources, National Marine Fisheries Service.

[FR Doc. 04-15741 Filed 7-9-04; 8:45 am]

BILLING CODE 3510-22-S